DEPARTMENT OF HEALTH AND HUMAN SERVICES

National Toxicology Program (NTP); Office of Liaison, Policy and Review; Meeting of the NTP Board of Scientific Counselors Technical Reports Review Subcommittee; Amended Notice

AGENCY: National Institute of Environmental Health Sciences (NIEHS), National Institutes of Health (NIH).

ACTION: Change in agenda.

SUMMARY: The February 27-28, 2008, meeting of the NTP Board of Scientific Counselors was announced in the Federal Register (72FR70863) on December 13, 2007. The agenda for the subcommittee meeting has changed. The draft NTP Technical Report on β-myrcene (TR 557) will not be reviewed. The guidelines published in the December 13 notice for submitting public comments or making an oral presentation at the meeting still apply. Any updates to the agenda or additional information and background materials will be posted on the NTP Web site (http://ntp.niehs.nih.gov/go/15833) and provided upon request from the Executive Secretary (see ADDRESSES below).

ADDRESSES: Public comments and any other correspondence should be submitted to Dr. Barbara Shane, Executive Secretary for the NTP Board (NTP Office of Liaison, Policy and Review Office, NIEHS, P.O. Box 12233, MD A3-01, Research Triangle Park, NC 27709; telephone: 919-541-4253, fax: 919-541-0295; or e-mail: shane@niehs.nih.gov).

Dated: January 11, 2008.
Samuel H. Wilson,
Acting Director, National Institute of Environmental Health Sciences and National Toxicology Program.

[FR Doc. E8-1248 Filed 1-24-08; 8:45 am]

BILLING CODE 4140-01-P